FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, without revision, the Domestic Branch Notification (FR 4001; OMB No. 7100-0097).

DATES: Comments must be submitted on or before January 29, 2019.

ADDRESSES: You may submit comments, identified by FR 4001, by any of the following methods:

• Agency website: http://www.federalreserve.gov. Follow the instructions for submitting comments at https://www.federalreserve.gov/apps/foia/proposedregs.aspx.

• Email: regs.comments@federalreserve.gov. Include OMB number in the subject line of the message.

• Fax: (202) 452-3819 or (202) 452-3102.

• Mail: Ann E. Misback, Secretary, Board of Governors of the Federal Reserve System, 20th Street and Constitution Avenue NW, Washington, DC 20551.

All public comments are available from the Board's website at https://www.federalreserve.gov/apps/foia/proposedregs.aspx as submitted, unless modified for technical reasons or to remove sensitive PII (personally identifiable information) at the commenter's request. Public comments may also be viewed electronically or in paper form in Room 3515, 1801 K Street NW. (between 18th and 19th Streets NW), Washington, DC 20006 between 9 a.m. and 5 p.m. on weekdays. For security reasons, the Board requires that visitors make an appointment to inspect comments. You may do so by calling (202) 452-3684. Upon arrival, visitors will be required to present valid government-issued photo identification and to submit to security screening in order to inspect and photocopy comments.

Additionally, commenters may send a copy of their comments to the OMB Desk Officer—Shagufta Ahmed—Office of Information and Regulatory Affairs, Office of Management and Budget, New Executive Office Building, Room 10235, 725 17th Street NW, Washington, DC 20503 or by fax to (202) 395-6974.

FOR FURTHER INFORMATION CONTACT: A copy of the PRA OMB submission, including the proposed reporting form and instructions, supporting statement, and other documentation will be placed into OMB's public docket files, once approved. These documents will also be made available on the Board's public website at: http://www.federalreserve.gov/apps/reportforms/review.aspx or may be requested from the agency clearance officer, whose name appears below.

Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION: On June 15, 1984, the Office of Management and Budget (OMB) delegated to the Board authority under the Paperwork Reduction Act (PRA) to approve of and assign OMB control numbers to collection of information requests and requirements conducted or sponsored by the Board. In exercising this delegated authority, the Board is directed to take every reasonable step to solicit comment. In determining whether to approve a collection of information, the Board will consider all comments received from the public and other agencies.

Request for Comment on Information Collection Proposal

The Board invites public comment on the following information collection, which is being reviewed under authority delegated by the OMB under the PRA. Comments are invited on the following:

a. Whether the proposed collection of information is necessary for the proper performance of the Board's functions; including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal prior.

Proposal To Approve Under OMB Delegated Authority the Extension for Three Years, Without Revision, of the Following Report

Report title: Domestic Branch Notification.

Agency form number: FR 4001.

OMB control number: 7100-0097.

Frequency: On Occasion.

Respondents: State member banks (SMBs).

Estimated number of respondents: 320.

Estimated average hours per response: Expedited notifications, 1.5 hours; and nonexpedited notifications, 2 hours.

Estimated annual burden hours: Expedited notifications, 98 hours; and nonexpedited notifications, 510 hours.

General description of report: The Federal Reserve Act and the Board's Regulation H require a state member bank to seek prior approval of the Federal Reserve System before establishing or acquiring a domestic branch. Such requests for approval must be filed as applications at the appropriate Reserve Bank for the state member bank. Due to the limited information that a state member bank generally has to provide for branch proposals, there is no formal reporting form for a domestic branch application. A state member bank is required to notify the Federal Reserve by letter of its intent to establish one or more new branches and provide with the letter evidence that public notice of the proposed branch(es) has been published by the state member bank in the appropriate newspaper(s).¹ The Federal Reserve uses the information provided to fulfill its statutory obligation to review branch applications before acting on the proposals and otherwise to supervise state member banks.

¹ Per Rules of Procedure (12 CFR 262), Board regulations require the use of newspaper for public notifications. For the purposes of FR 4001, the newspaper used must be in the general circulation of the community or communities in which the head office of the bank and the proposed branch are located.

Legal authorization and confidentiality: The Board's filing requirements associated with Domestic Branch Notification are authorized under section 9(3) of the Federal Reserve Act (12 U.S.C. 321), which requires state member banks to obtain Board approval before establishing a domestic branch (Board's Regulation H (12 CFR 208.6)). The obligation of state member banks to request prior approval from the Federal Reserve to establish a domestic branch is mandatory. The information contained in a state member bank's Domestic Branch Notification is considered public. A state member bank's request that any portion(s) of a Domestic Branch Notification be kept confidential pursuant to exemption 4 of the Freedom of Information Act (5 U.S.C. 552(b)(4)) must be submitted in accordance with section 261.15 of the Board's Rules Regarding Availability of Information (12 CFR 261.15).

Board of Governors of the Federal Reserve System, November 27, 2018.
Michele Taylor Fennell,
Assistant Secretary of the Board.

[FR Doc. 2018-26087 Filed 11-29-18; 8:45 am]

BILLING CODE 6210-01-P